DEPARTMENT OF DEFENSE

Office of the Secretary

[Docket ID: DoD-2019-OS-0119]

Privacy Act of 1974; System of Records; Correction

AGENCY: Office of the Secretary, Department of Defense (DoD).

ACTION: Notice of a modified System of Records; correction.

SUMMARY: On Wednesday, October 16, 2019, the DoD published a notice titled “Privacy Act of 1974; System of Records” that modified a System of Records titled, “Defense Enrollment Eligibility Reporting System (DEERS), DMDC 02 DoD.” Subsequent to the publication of the notice, DoD discovered an error. This notice corrects the error.

DATES: This correction is effective on December 2, 2019.

FOR FURTHER INFORMATION CONTACT: Patricia L. Toppings, 571-372-0485.

SUPPLEMENTARY INFORMATION: On Wednesday, October 16, 2019 (84 FR 55293-55298), the DoD published a notice titled “Privacy Act of 1974; System of Records” that modified a System of Records titled, “Defense Enrollment Eligibility Reporting System (DEERS), DMDC 02 DoD.” The error referenced in the SUMMARY section of this notice is corrected to read as follows:

On page 55295, in the first column, in CATEGORIES OF INDIVIDUALS COVERED BY THE SYSTEM, “i.e.” is corrected to read “e.g.”

Dated: November 26, 2019.
Aaron T. Siegel,
Alternate OSD Federal Register Liaison Officer, Department of Defense.

[FR Doc. 2019-26032 Filed 11-29-19; 8:45 am]

BILLING CODE 5001-06-P